DEPARTMENT OF AGRICULTURE

Food and Nutrition Service

Agency Information Collection Activities: Proposed Collection; Comment Request: Supplemental Nutrition Assistance Program, Store Reauthorization Application, Form FNS-252-R

AGENCY: Food and Nutrition Service (FNS), USDA.

ACTION: Notice.

SUMMARY: In accordance with the Paperwork Reduction Act of 1995, this notice invites the general public and other public agencies to comment on proposed information collections. The proposed collection is a new information collection requirement.

DATES: Written comments must be received on or before June 30, 2009 to be assured of consideration.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques or other forms of information technology.

Comments may be sent to Ronald K. Ward, Chief, Retailer Operations Branch, Benefit Redemption Division, U.S. Department of Agriculture, Food and Nutrition Service, 3101 Park Center Drive, Room 404, Alexandria, VA 22302. Comments may also be submitted via fax to the attention of Ronald K. Ward at (703) 305-1863 or via e-mail to BRDHQ-Web@fns.usda.gov.

All written comments will be open for public inspection at the office of the Food and Nutrition Service during regular business hours (8:30 a.m. to 5 p.m., Monday through Friday) at 3101 Park Center Drive, Alexandria, Virginia 22302, Room 404.

All responses to this notice will be summarized and included in the request for Office of Management and Budget (OMB) approval. All comments will be a matter of public record.

FOR FURTHER INFORMATION CONTACT: Requests for additional information should be directed to Ronald K. Ward at (703) 305-2523.

SUPPLEMENTARY INFORMATION: Title: Supplemental Nutrition Assistance Program—Store Reauthorization Application.

Form Number: FNS-252-R.

Type of Request: New information collection.

Abstract: The Food and Nutrition Service (FNS) of the U.S. Department of Agriculture is the Federal agency responsible for the Supplemental Nutrition Assistance Program (SNAP), formerly known as the Food Stamp Program. The Food and Nutrition Act of 2008, as amended, (7 U.S.C. 2011 et seq.) requires that the FNS determine the eligibility of retail food stores and certain food service organizations to accept and redeem SNAP benefits and to monitor them for compliance and continued eligibility.

Part of FNS' responsibility is to accept applications from retail food stores that wish to participate in the SNAP, review the applications in order to determine whether or not applicants meet eligibility requirements, and make determinations whether to grant or deny authorization to accept and redeem SNAP benefits. FNS is also responsible for requiring updates to application information and reviewing that information to determine whether or not the retail firms continue to meet eligibility requirements. There are currently four application forms designed for that purpose approved under OMB No. 0584-0008—the Supplemental Nutrition Assistance Program Application for Stores, Form FNS-252 and FNS-252-E (paper and electronic version, respectively); the Meal Service Application, Form FNS-252-2; and the Corporate Supplemental Application, Form FNS-252-C used for individual (chain) stores under a Corporation.

Previous submissions to OMB regarding this information collection reflected the elimination of the Supplemental Nutrition Assistance Program Application for Stores—Reauthorization, Form FNS-252-R, due to FNS' streamlining efforts. Since the elimination of the Form FNS-252-R, FNS has determined that additional information is needed to ensure that retailers meet the necessary requirements of operation to carry out the intent of the SNAP, and to ensure efficient and effective operation of the Program.

Our ability to reduce the information collection burden has been hampered by our need to obtain verifiable annual gross sales and food sales income from all participating retailers. Because FNS no longer has a specific form that captures reauthorization information, we are seeking approval from OMB for information collection requirements to be imposed on retail/wholesale firms and food service organizations for the continued eligibility of such respondents once authorized. Upon OMB approval, FNS intends to incorporate this form into the information collection associated with OMB No. 0584-0008, as these respondents are also considered the “normal channels of trade” for delivery of SNAP benefits to low-income households.

It is our experience that most firms will remain eligible and continue to deliver Program benefits. Form FNS-252-R is needed to obtain verifiable annual gross sales and food sales income from all participating retailers, and to ensure continued eligibility for SNAP participation. FNS intends to implement the use of this form on October 1, 2009. FNS is committed to complying with the E-Government Act of 2002, which requires that, when practicable, Federal agencies use electronic forms, electronic filing, and electronic signature to conduct official business. Current technological opportunities allow us to improve information collection in accordance with these statutes. FNS is developing an online application for the Form FNS-252-R, as an electronic alternative for retailers who wish to complete and submit the reauthorization application via the Internet on the FNS Web site. Efforts are being made to streamline and simplify the data collection burden imposed on respondents. Only those questions that have any relevance to the reauthorization process are being asked on Form FNS-252-R. Approximately 9 questions will be on Form FNS-252-R.

In accordance with Section 278.1(j)-(n) of the SNAP regulations, all firms must be reauthorized at least once every five years. The burden associated with the Form FNS-252-R is determined from the number currently authorized stores (178,793) obtained from the STARS Database as of February, 2009. Approximately 9 percent of all currently authorized retailers (16,381 individual firms) will be subject to reauthorization in Fiscal Year (FY) 2010. We do not know how many retailers will use the online reauthorization application. We estimate that, initially, 6,552 (or 40%) of the 16,381 individual firms subject to reauthorization will be completed using the online Form FNS-252-R in FY 2010. The remaining 9,829 (or 60%) retailers will complete the paper application, Form FNS-252-R. We estimate the hourly burden time per response for retailers completing either the online or paper Form FNS-252-R to be 7 minutes. This burden estimate includes the time to review instructions, search existing data resources, gather and copy the data needed, complete and review the application and submit the form and documentation to FNS.

Respondents: Retail food stores.

Estimated Number of Respondents: 16,381.

Number of Responses per Respondent: 1.

Estimated Number of Annual Responses: 16,381.

Estimated Time per Response: .1169 or 7 minutes.

Estimate Total Annual Burden on Respondents: 1,915 hours.

Dated: April 23, 2009.
E. Enrique Gomez,
Acting Administrator, Food and Nutrition Service.

[FR Doc. E9-10052 Filed 4-30-09; 8:45 am]

BILLING CODE 3410-30-P